SURFACE TRANSPORTATION BOARD

[Docket No. AB 312 (Sub-No. 5X)]

South Carolina Central Railroad Company, LLC—Abandonment Exemption—in Darlington County, S.C.

South Carolina Central Railroad Company, LLC (SCRF), has filed with the Surface Transportation Board (Board) a petition under 49 CFR 10502 for exemption from the prior approval requirements of 49 U.S.C. 10903 to abandon approximately two miles of rail line over six railroad tracks that most recently served the Sonoco Products Company (Sonoco) in Hartsville, Darlington County, S.C. The rail line consists of the following: (1) Track 1 between Sonoco Lead mileposts 312.7 and 313.24, and its associated leads, Tracks 1a and 1b; (2) Tracks 2 and 2a, which do not have mileposts; and (3) Track 3 between Hartsville mileposts 312.85 and 313.56 (the Line). The Line traverses U.S. Postal Service Zip Code 29550 and has no rail stations.

According to SCRF, the Line is the stub end of a rail line over which SCRF provided rail service to Sonoco. SCRF states, however, that Sonoco is re-tooling its facility for a different commodity and will no longer require rail service, and that, following the abandonment, SCRF plans to transfer its interest in the Line to Sonoco to facilitate Sonoco's development of its property. Attached as an exhibit to the petition is a letter from Sonoco supporting the proposed abandonment.

SCRF states that, based on information in its possession, the Line does not contain federally granted rights-of-way. Any documentation in SCRF's possession will be made available promptly to those requesting it.

The interest of railroad employees will be protected by the conditions set forth in Oregon Short Line Railroad—Abandonment Portion Goshen Branch Between Firth & Ammon, in Bingham & Bonneville Counties, Idaho, 360 I.C.C. 91 (1979).

By issuing this notice, the Board is instituting an exemption proceeding pursuant to 49 U.S.C. 10502(b). A final decision will be issued by November 25, 2022.

Any offer of financial assistance (OFA) under 49 CFR 1152.27(b)(2) will be due no later than 120 days after the filing of the petition for exemption, or 10 days after service of a decision granting the petition for exemption, whichever occurs sooner. Persons interested in submitting an OFA must first file a formal expression of intent to file an offer by September 6, 2022, indicating the type of financial assistance they wish to provide (i.e., subsidy or purchase) and demonstrating that they are preliminarily financially responsible. See 49 CFR 1152.27(c)(1)(i).

Following abandonment, the Line may be suitable for other public use, including interim trail use. Any request for a public use condition under 49 CFR 1152.28 or for interim trail use/rail banking under 49 CFR 1152.29 will be due no later than September 15, 2022.¹

¹ Filing fees for OFAs and trail use requests can be found at 49 CFR 1002.2(f)(25) and (27), respectively.

All pleadings, referring to Docket No. AB 312 (Sub-No. 5X), must be filed with the Surface Transportation Board either via e-filing on the Board's website or in writing addressed to 395 E Street SW, Washington, DC 20423-0001. In addition, a copy of each pleading must be served on SCRF's representative, Eric M. Hocky, Clark Hill PLC, Two Commerce Square, 2001 Market Street, Suite 2620, Philadelphia, PA 19103. Replies to the petition are due on or before September 15, 2022.

Persons seeking further information concerning abandonment procedures may contact the Board's Office of Public Assistance, Governmental Affairs, and Compliance at (202) 245-0238 or refer to the full abandonment regulations at 49 CFR part 1152. Questions concerning environmental issues may be directed to the Board's Office of Environmental Analysis (OEA) at (202) 245-0294. Assistance for the hearing impaired is available through the Federal Relay Service at (800) 877-8339.

An environmental assessment (EA) (or environmental impact statement (EIS), if necessary) prepared by OEA will be served upon all parties of record and upon any other agencies or persons who comment during its preparation. Other interested persons may contact OEA to obtain a copy of the EA (or EIS). EAs in abandonment proceedings normally will be made available within 60 days of the filing of the petition. The deadline for submission of comments on the EA generally will be within 30 days of its service.

Board decisions and notices are available at www.stb.gov.

Decided: August 17, 2022.
By the Board, Scott M. Zimmerman, Acting Director, Office of Proceedings.
Stefan Rice,
Clearance Clerk.

[FR Doc. 2022-18402 Filed 8-25-22; 8:45 am]

BILLING CODE 4915-01-P